SMALL BUSINESS ADMINISTRATION

[Disaster Declaration #11514 and #11557]

Arkansas Disaster Number AR-00026

AGENCY: U.S. Small Business Administration.

ACTION: Amendment 1.

SUMMARY: This is an amendment of the Presidential declaration of a major disaster for Public Assistance Only for the State of Arkansas (FEMA-1804-DR), dated 10/22/2008.

Incident: Tropical Storm Ike.

Incident Period: 09/13/2008 through 09/23/2008.

DATES: Effective Date: 11/28/2008.

Physical Loan Application Deadline Date: 12/22/2008.

Economic Injury (EIDL) Loan Application Deadline Date: 07/22/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Arkansas, dated 10/22/2008, is hereby amended to include the following areas as adversely affected by the disaster.

Primary Counties: Clark, Montgomery, Nevada, Pike.

All other information in the original declaration remains unchanged.

(Catalog of Federal Domestic Assistance Numbers 59002 and 59008)

Herbert L. Mitchell,
Associate Administrator for Disaster Assistance.

[FR Doc. E8-29115 Filed 12-8-08; 8:45 am]

BILLING CODE 8025-01-P